DEPARTMENT OF DEFENSE

Department of the Air Force

[ARV-221004B-PL]

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license to Advanced Cooling Technologies, Inc., having a place of business at 1046 New Holland Avenue, Lancaster, PA 17601.

DATES: Written objections must be filed no later than fifteen (15) calendar days after the date of publication of this notice.

ADDRESSES: Submit written objections to Sara Telano, AFRL/RDOX, 3550 Aberdeen Ave SE, Kirtland AFB, NM 87117; Phone: (505) 853-3305; or Email: sara.telano@us.af.mil. Include Docket No. ARV-221004B-PL in the subject line of the message.

FOR FURTHER INFORMATION CONTACT: Sara Telano, AFRL/RDOX, 3550 Aberdeen Ave. SE, Kirtland AFB, NM 87117; Phone: (505) 853-3305; or Email: sara.telano@us.af.mil.

Abstract of Patent Application(s)

A thermomodulating heat pipe is provided including a heat pipe envelope having a capillary wick extending substantially continuously the full length of the heat pipe and a void space interior of the capillary wick. The heat pipe envelope has a nominal evaporator section, a nominal condenser section where the nominal condenser section includes an active condenser portion and an inactive condenser portion, and a reservoir section extending from the inactive condenser portion. At a nominal condition, a heat pipe fluid is provided with a liquid phase filling the capillary wick and a vapor phase filling the void space of the nominal evaporator section and the active condenser portion, a non-condensable gas filling the void space of at least the reservoir section and the inactive condenser portion. Depending on thermal conditions, both prograde and retrograde heat transfer are enabled.

Intellectual Property

U.S. Application No. 18/204,114, filed on May 31, 2023, and entitled, “Thermomodulating Heat Pipe.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-12210 Filed 6-7-23; 8:45 am]

BILLING CODE 5001-10-P